DEPARTMENT OF HEALTH AND HUMAN SERVICES

Administration for Children and Families

Refugee Resettlement Program: Final Notice of Allocations to States of FY 2001 Funds for Refugee Social Services

AGENCY: Office of Refugee Resettlement (ORR), ACF, HHS.

ACTION: Final notice of allocations to States of FY 2001 funds for refugee social services.

SUMMARY: This notice establishes the allocations to States of FY 2001 funds for social services under the Refugee Resettlement Program (RRP).

This notice includes $20.5 million in two set-aside funding allocations to: (1) Provide outreach and referral services to ensure that eligible refugees access the State Children's Health Insurance Program (SCHIP)and other programs for low income working populations and provide specialized interpreter training and the hiring of interpreters to enable refugees to have equal access to medical and legal services; and (2) provide outreach, referral, and social services to ensure that persons granted asylum access programs to help them attain economic self-sufficiency, as needed.

DATES: July 6, 2001.

FOR FURTHER INFORMATION CONTACT: Barbara R. Chesnik, Division of Refugee Self-Sufficiency, (202) 401-4558.

SUPPLEMENTARY INFORMATION: A notice of proposed allocations to States of FY 2001 funds for refugee social services was published in the Federal Register on April 27, 2001 (66 FR 21224).

I. Amounts for Allocation

The Office of Refugee Resettlement (ORR) has available $143,621,000 in FY 2001 refugee social service funds as part of the FY 2001 appropriation for the Department of Health and Human Services (Consolidated Appropriations Act, 2001, as enacted into law by Section 1(a)(1) of Pub. L. No. 106-554).

The FY 2001 House Appropriations Committee Report (H.R. Rept. No. 106-645) reads as follows with respect to social services funds:

The bill provides $143,621,000 for social services, the same as the fiscal year 2000 appropriation and $305,000 above the budget request. Funds are distributed by formula as well as through the discretionary grant making process for special projects. The Committee agrees that $19,000,000 is available for assistance to serve communities affected by the Cuban and Haitian entrants and refugees whose arrivals in recent years have increased. The Committee has set aside $26,000,000 for increased support to communities with large concentrations of refugees whose cultural differences make assimilation especially difficult justifying a more intense level and longer duration of Federal assistance. Finally, the Committee has set aside $14,000,000 to address the needs of refugees and communities impacted by recent changes in Federal assistance programs relating to welfare reform. The Committee urges ORR to assist refugees at risk of losing, or who have lost benefits including SSI, TANF and Medicaid, in obtaining citizenship.

The FY 2001 Conference Report on Appropriations (H.R. Conf. 106-1033) reads as follows concerning social services:

The agreement includes $20,000,000 from carryover funds that are to be used under social services to increase educational support to schools with a significant proportion of refugee children and for the development of alternative cash assistance programs that involve case management approaches to improve resettlement outcomes. Such support should include intensive English language training and cultural assimilation programs.

The agreement also includes $26,000,000 for increased support to communities with large concentrations of refugees whose cultural differences make assimilation especially difficult justifying a more intense level and longer duration of Federal assistance.

The Conference report provided $143,621,000 in social services funds.

ORR will use the $143,621,000 appropriated for FY 2001 social services as follows:

• $71,927,850 will be allocated under the 3-year population formula, as set forth in this notice for the purpose of providing employment services and other needed services to refugees.

• $12,693,150 will be awarded as continuation social service discretionary grants under prior year competitive grant announcements issued separately from this notice.

• $19,000,000 will be awarded to serve communities most heavily affected by recent Cuban and Haitian entrant and refugee arrivals. These funds will be awarded through continuation awards under a separate prior year announcement.

• $26,000,000 will be awarded through discretionary grants for communities with large concentrations of refugees whose cultural differences make assimilation especially difficult justifying a more intense level and longer duration of Federal assistance. Continuation awards will be made through separate prior year announcements.

• $14,000,000 will be awarded to address the needs of refugees and communities impacted by recent changes in Federal assistance programs relating to welfare reform. Awards will be made through a separate announcement.

• $20,000,000 will be awarded in prior year funds to increase educational support to schools with a significant proportion of refugee children and for the development of alternative cash assistance programs that involve case management approaches to improve resettlement outcomes. This support will include intensive English language training and cultural assimilation programs. Continuation awards will be made through a separate prior year announcement.

In addition, we are adding $20,500,000 in prior year funds to the FY 2001 formula social services allocation as two set-aside allocations as follows: (1) For outreach and assistance for low-income refugees and interpreter capacity-building services, and (2) as a set-aside for outreach, referral, and services for asylees, increasing the total amount available for the formula social services program in FY 2001 to $92,427,850.

Congress provided ORR with broad carry-over authority in the FY 2000 HHS appropriations law (as enacted into law by section 1000(a)(4) of Public Law 106-113) to use unexpended FY 1998 and FY 1999 CMA funds for assistance and other activities in the refugee program provided through September 30, 2001. The appropriations law states:

That funds appropriated pursuant to section 414(a) of the Immigration and Nationality Act under Public Law 105-78 for fiscal year 1998 and under Public Law 105-277 for fiscal year 1999 shall be available for the costs of assistance provided and other activities through September 30, 2001.

Refugee Social Service Funds

The population figures for the formula social services allocation include refugees, Cuban/Haitian entrants, and Amerasians from Vietnam. (A State must, however, have an approved State plan for the Cuban/Haitian Entrant Program or indicate in its refugee program State plan that Cuban/Haitian entrants will be served in order to use funds on behalf of entrants as well as refugees.)

The Director is allocating $71,927,850 to States on the basis of each State's proportion of the national population of refugees who had been in the U.S. 3 years or less as of October 1, 2000 (including a floor amount for States which have small refugee populations).

The use of the 3-year population base in the allocation formula is required by section 412(c)(1)(B) of the Immigration and Nationality Act (INA) which states that the “funds available for a fiscal year for grants and contracts [for social services] * * * shall be allocated among the States based on the total number of refugees (including children and adults) who arrived in the United States not more than 36 months before the beginning of such fiscal year and who are actually residing in each State (taking into account secondary migration) as of the beginning of the fiscal year.”

As established in the FY 1991 social services notice published in the Federal Register of August 29, 1991, section I, “Allocation Amounts” (56 FR 42745), a variable floor amount for States which have small refugee populations is calculated as follows: If the application of the regular allocation formula yields less than $100,000, then—

(1) a base amount of $75,000 is provided for a State with a population of 50 or fewer refugees who have been in the U.S. 3 years or less; and

(2) for a State with more than 50 refugees who have been in the U.S. 3 years or less: (a) a floor has been calculated consisting of $50,000 plus the regular per capita allocation for refugees above 50 up to a total of $100,000 (in other words, the maximum under the floor formula is $100,000); (b) if this calculation has yielded less than $75,000, a base amount of $75,000 is provided for the State.

The Director is also allocating an additional total of $20.5 million from prior year carry-over funds as two set-aside allocations as follow:

(1) $10.5 million to (a) provide referral services, including outreach, to ensure that refugees are able to access the State Children's Health Insurance Program (SCHIP) and other programs for low income populations; and (b) expand the capacity of communities to provide interpretation services for refugees through special training and hiring of interpreters to enable refugees to have equal access to medical, social, and certain legal services.

(2) $10 million to provide outreach, referrals, and social services to individuals granted asylum. Services for asylees may be provided only during the 5-year period following the date that asylum was granted.

Outreach, referral and interpretation services are not subject to the 5-year limitation and may be provided to refugees and asylees regardless of their length of time in the U.S. See 45 CFR 400.152(b). However, the need for outreach to asylees is greatest immediately after asylum is granted.

Regarding the first set-aside allocation, eligible refugee families often are not aware of, or do not know how to access, other Federal support programs available to low income working families in the community. We believe that these programs, including SCHIP, Food Stamps, Low Income Home Energy Assistance Program (LIHEAP), Medicaid, Head Start, low-income housing, the Special Supplemental Nutrition Program for Women, Infants, and Children (WIC), child care assistance, adult day care for aged dependents, and other support programs for low-income families, are important for the well-being of working refugees, particularly refugee families, and are necessary to help these refugees maintain employment and move toward full self-sufficiency.

The organizations funded by the first set-aside amount are expected to conduct outreach into the community to identify low-income refugees and to help these refugees enroll in and to be familiar with the services available and the participation requirements of these programs. We expect States to fund community-based organizations, to the maximum extent possible, to provide hands-on assistance, which means having the application forms available and helping refugees to fill out the application, accompanying the refugee to the eligibility office, assisting in the communication between the family and the eligibility worker, closely following the application process until the family has been found eligible, and then helping the family effectively use the service or support program in which they have been enrolled. For example, there may be different levels of medical coverage available to a family, depending on the ages of the children and the income level of the family, each with different requirements. It is important for the caseworkers/advocates funded through this initiative to understand the program requirements (such as a co-payment structure) in order to help the family make decisions and fully participate.

The organizations funded under this set-aside should develop effective ways to provide an on-going link between these services, the population they serve, and the targeted low income programs. Methods might include: partnering with schools to identify refugee children who may be eligible for SCHIP by virtue of their eligibility for the school lunch program; connecting with local Head Start programs to help identify refugee children who are eligible for SCHIP and other health care programs; arranging to have Medicaid eligibility workers visit the Mutual Assistance Association (MAA) or other participating organization on a scheduled basis; and working with other groups serving low income families, such as hospitals, WIC programs, low-income housing programs, and food assistance programs to make these services widely known to the refugee community being served.

It is also important that States provide as high a standard as possible in language interpretation to non-English speaking and to Limited-English-Proficient (LEP) refugees, particularly with regard to medical and legal issues. We are therefore including funding in the first set-aside for States to improve the availability and quality of interpreter services for refugees in their communities. The set-aside funds are to be used by States: (1) To fund specialized interpreter training for medical, legal, and social services; and (2) to pay for the hiring and employment of these trained interpreters by MAAs, voluntary agencies, and other community-based organizations serving refugees, to the maximum extent possible, in order to increase the number of skilled interpreters in the community.

Interpretation requires a great deal of skill—interpreters need to be fluent in English and the language spoken by the refugee. They must have the ability to quickly understand the message and terminology, if technical, in one language and to express it as quickly and correctly in another language. In addition to fluency in two languages, interpreters must have the skills to handle confidential client information and to deal with a variety of professionals in the medical, legal, law enforcement, social services, and other fields. All interpreters should be working under a recognized code of ethics.

States should use qualified training programs or trainers to provide the interpreter training. Several strategies may be employed, e.g., the direct training of interpreters in a group setting, paying the course tuition and associated expenses for individuals at a community college or university, and the training of trainers in order to establish and maintain an efficient training capacity in the community. To the extent possible, we would expect States to use an established curriculum rather than incurring costs to develop a new one. Funding of interpreter services should be directed to areas of greatest need and to the most linguistically isolated communities.

States must determine a community's capacity to ensure refugee access to medical and other services, and then examine how best to fund and maintain interpreter services for refugees based upon the need and size of refugee population. For example, an interpreter bank with dedicated interpreters may be a preferred option if the needs of the community can justify full-time interpreters. However, because the provision of interpreter services may not fully occupy funded staff in some locations or in certain languages, States may choose to train bilingual caseworkers at voluntary resettlement agencies, MAAs and refugee service providers. These workers are frequently called upon to interpret and should receive interpreter training. States may also consider cross-training of interpreters so that they may also assist, for example, in enrolling clients in SCHIP, Medicaid, or other services for low-income clients, and/or serve as case managers or in other staff positions. Staff with both bilingual interpreter skills and knowledge of the family services network, such as child protective services and the domestic violence system, are also highly desirable.

We also encourage States to set up creative ways to maintain and expand the availability of interpreter services in the community, such as seeking reimbursement for services from the courts, hospitals, and agencies which may be able to pay for interpreter services but have been otherwise hindered in providing these services by the lack of available and appropriately trained individuals. Fees from low-income refugee clients, however, may not be sought.

Regarding the second set-aside allocation, individuals granted asylum do not have voluntary agency caseworkers to bring them into the network of refugee program and benefits. They often are unaware of the benefits to which they are entitled. Outreach activities under the second set-aside allocation should be conducted with the goal of providing information to asylees or of providing information to the agencies and organizations that traditionally have contact with asylees and may be able to assist them in accessing needed services and benefits. For example, outreach through organizations and agencies may include training seminars on benefits-eligibility conducted for attorneys that represent asylum seekers, monthly liaison meetings with the District Office of the Immigration and Naturalization Service to establish effective contacts, or provision of benefits and eligibility materials to local English as a Second Language (ESL) programs for distribution to students. This set-aside amount may also be used to provide social services to asylees. Although the formula social services funds are available to serve asylees, States may augment this funding using these set-aside funds for those agencies who are already serving, or expect to serve, refugees and asylees. Or, States may elect to hold a separate competition for the funds, depending upon State administrative procedures and programmatic need. As for refugees, services to asylees are those covered in 400.154 and 155.

A State that can demonstrate that the total amount of set-aside funds awarded is not needed to provide the services described above may submit a written request to the Director to use a portion of the funds for another non-employment service. This request must fully describe how the need for the specified set-aside services is already being met in the State, as well as a description of the additional service proposed, why it is needed, and how it will be provided.

In using the set-aside amount, funds should be directed to refugee specific organizations, where possible, such as refugee MAAs, qualified community based organizations with refugee experience, voluntary resettlement agencies, or refugee service providers.

Population To Be Served and Allowable Services

Eligibility for refugee social services includes persons who meet all requirements of 45 CFR 400.43 (as amended by 65 FR 15409 (March 22,2000)).

Note: ORR State Letter No. 00-12 clarifies that effective June 15, 2000, persons granted asylum are eligible for refugee benefits and services from the date that asylum was granted.

Services to refugees must be provided in accordance with the rules of 45 CFR Part 400 Subpart I—Refugee Social Services. Although the allocation formula is based on the 3-year refugee population, States are not required to limit social service programs to refugees who have been in the U.S. only 3 years. However, under 45 CFR 400.152, States may not provide services funded by this notice, except for referral and interpreter services and citizenship and naturalization preparation services, to refugees who have been in the United States for more than 60 months (5 years).

Allowable social services are those indicated in 45 CFR 400.154 and 400.155. Additional services not included in these sections which the State may wish to provide must be submitted to and approved by the Director of ORR (§ 400.155(h)).

Service Priorities

In the past, a number of States have focused primarily on serving refugee cash assistance (RCA) recipients because of the need to help these refugees become employed and self-sufficient within the 8-month RCA eligibility period. Now, with the passage of welfare reform, refugee recipients of Temporary Assistance for Needy Families (TANF) also face a time limit for cash assistance and need appropriate services as quickly as possible to become employed and self-sufficient. In order for refugees to move quickly off TANF, we believe it is crucial for these refugees to receive refugee-specific services that are designed to address the employment barriers that refugees typically face.

Some States are doing remarkably well in helping refugees achieve self-sufficiency. For this reason, this may be a good time for these States to re-examine the range of services they currently offer to refugees and expand beyond employment services to address the broader needs that refugees have in order to successfully integrate into the community.

States should also expect that these funds will be made available to pay for social services which are provided to refugees who participate in Wilson/Fish projects. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate notice in the Federal Register with respect to applications for such projects (64 FR 19793 (April 22, 1999)).

II. Discussion of Comments Received

No comments were received.

III. Allocation Formulas

Of the funds available for FY 2001 for social services, $71,927,850 is allocated to States in accordance with the formula specified in A. below. In addition, $20.5 million in set-aside funds are allocated in accordance with the formulas specified in B. and C. below.

A. A State's allowable formula allocation is calculated as follows:

1. The total amount of funds determined by the Director to be available for this purpose; divided by—

2. The total number of refugees, Cuban/Haitian entrants, and Amerasians from Vietnam who arrived in the United States not more than 3 years prior to the beginning of the fiscal year for which the funds are appropriated, as shown by the ORR Refugee Data System. The resulting per capita amount is multiplied by—

3. The number of persons in item 2, above, in the State as of October 1, 2000, adjusted for estimated secondary migration.

The calculation above yields the formula allocation for each State. Minimum allocations for small States are taken into account.

B. A State's allowable first set-aside allocation is calculated as follows:

1. The total amount of funds determined by the Director to be available for this purpose; divided by—

2. The total number of refugees, Cuban/Haitian entrants, and Amerasians from Vietnam who arrived in the United States not more than 3 years prior to the beginning of the fiscal year for which the funds are appropriated, as shown by the ORR Refugee Data System. The resulting per capita amount is multiplied by—

3. The number of persons in item 2 above, in the State as of October 1, 2000, adjusted for estimated secondary migration.

C. A State's allowable second set-aside allocation is calculated as follows:

1. The total amount of funds determined by the Director to be available for this purpose; divided by—

2. The total number of asylees who were granted asylum in FY 2000 by the INS asylum corps (22,809), the asylum judges of the Executive Office of Immigration Review (12,763), and the Bureau of Immigration Appeals (1,402).

The calculations in B. and C. above yield the set-aside formula allocations for each State.

Adding the results for A., B., and C. above yields the total formula allocation for each State.

IV. Basis of Population Estimates

The population estimates for the allocation of funds in FY 2001 for the formula social service allocation and the first set-aside are based on data on refugee arrivals from the ORR Refugee Data System, adjusted as of October 1, 2000, for estimated secondary migration. The data base includes refugees of all nationalities, Amerasians from Vietnam, Cuban and Haitian entrants.

For fiscal year 2001, ORR's formula social service allocations for the States are based on the numbers of refugees, Amerasians, and entrants in the ORR data base. The numbers are based upon the arrivals during the preceding three fiscal years: 1998, 1999, and 2000.

The estimates of secondary migration are based on data submitted by all participating States on Form ORR-11 on secondary migrants who have resided in the U.S. for 36 months or less, as of September 30, 2000. The total migration reported by each State is summed, yielding in- and out-migration figures and a net migration figure for each State. The net migration figure is applied to the State's total arrival figure, resulting in a revised population estimate.

Estimates are developed separately for refugees and entrants and then combined into a total estimated 3-year refugee/entrant population for each State. Eligible Amerasians are included in the refugee figures. Havana parolees (HP's) are enumerated in a separate column in Table 1, below because they are tabulated separately from other entrants. For FY 2000 and FY 1999, Havana parolee arrivals for all States are based on actual data. For FY 1998, Florida's HP's (10,183) are based on actual data, while HP's in other States (3,258) are prorated according to the State's proportion of the three-year entrant populations.

The second set-aside is based on the number of asylees granted asylum in FY 2000, according to data received from the Department of Justice for cases approved by the Asylum Corps, the immigration judges of the Executive Office of Immigration Review, and the Bureau of Immigration Appeals. These data show the asylee's zip code of record. Because we are asking States to set up systems to identify and serve those asylees in need of services, we have added this second set-aside amount to the total allocation for States. During the next year, ORR intends to revise the ORR-11 and seek OMB approval to capture the number of asylees and secondary migrants accessing services at the county level. ORR will adjust the social services formula 3-year population based on these data.

Table 1, below, shows the estimated 3-year populations, as of October 1, 2000, of refugees (col. 1), entrants (col. 2), Havana parolees (col. 3); total refugee/entrant population, (col. 4); the formula amounts which the population estimates yield, (col. 5); the allocation amounts after allowing for the minimum amounts (col. 6); first set-aside allocation, (col. 7); the 1 year asylee population (col. 8); the second set-aside amount, (col. 9); and the total allocation (col. 10).

V. Allocation Amounts

Funding subsequent to the publication of this notice will be contingent upon the submittal and approval of a State annual services plan that is developed on the basis of a local consultative process, as required by 45 CFR 400.11(b)(2) in the ORR regulations.

The following amounts are for allocation for refugee social services in FY 2001:

Table 1.—Estimated Three-Year Refugee/Entrant/Asylee/Parolee Populations of States Participating in the Refugee Program and Final Social Service Formula Amount and Allocation for FY 2001
State | Refugees ¹ | Entrants | Havana parolees ² | Total population | Final formula amount | Final allocation | Final set-aside ($10.5 million) | Asylees ³ | Asylee set-aside ($10 million) | Total final allocation
Alabama | 460 | 5 | 59 | 524 | $127,579 | $127,579 | $18,721 | 33 | $8,931 | $155,231
Alaska | 0 | 0 | 0 | 0 |  |  |  | 0 |  |
Arizona | 7,466 | 433 | 190 | 8,089 | 1,969,438 | 1,969,438 | 288,999 | 306 | 82,810 | 2,341,247
Arkansas | 46 | 9 | 8 | 63 | 15,339 | 75,000 | 2,251 | 21 | 5,683 | 82,934
California | 29,576 | 53 | 379 | 30,008 | 7,306,081 | 7,306,081 | 1,072,108 | 13,525 | 3,660,155 | 12,038,344
Colorado | 3,349 | 3 | 5 | 3,357 | 817,332 | 817,332 | 119,937 | 268 | 72,527 | 1,009,796
Connecticut | 3,428 | 28 | 102 | 3,558 | 866,270 | 866,270 | 127,118 | 194 | 52,501 | 1,045,889
Delaware | 124 | 11 | 1 | 136 | 33,112 | 75,000 | 4,859 | 50 | 13,531 | 93,390
Dist. of Columbia | 964 | 1 | 9 | 974 | 237,141 | 237,141 | 34,798 | 298 | 80,645 | 352,584
Florida | 13,324 | 12,004 | 34,839 | 60,167 | 14,648,926 | 14,648,926 | 2,149,611 | 5,295 | 1,432,940 | 18,231,477
Georgia | 11,230 | 33 | 118 | 11,381 | 2,770,945 | 2,770,945 | 406,614 | 567 | 153,442 | 3,331,001
Hawaii | 97 | 0 | 0 | 97 | 23,617 | 75,000 | 3,466 | 24 | 6,495 | 84,961
Idaho ⁵ | 2,077 | 0 | 3 | 2,080 | 506,420 | 506,420 | 74,313 | 4 | 1,082 | 581,815
Illinois | 10,868 | 14 | 190 | 11,072 | 2,695,712 | 2,695,712 | 395,574 | 524 | 141,806 | 3,233,092
Indiana | 1,830 | 4 | 13 | 1,847 | 449,691 | 449,691 | 65,989 | 103 | 27,874 | 543,554
Iowa | 5,298 | 0 | 3 | 5,301 | 1,290,640 | 1,290,640 | 189,391 | 41 | 11,095 | 1,491,126
Kansas | 727 | 1 | 8 | 736 | 179,195 | 179,195 | 26,295 | 46 | 12,449 | 217,939
Kentucky ⁶ | 3,586 | 1,171 | 396 | 5,153 | 1,254,607 | 1,254,607 | 184,103 | 35 | 9,472 | 1,448,182
Louisiana | 1,491 | 104 | 78 | 1,673 | 407,327 | 407,327 | 59,772 | 41 | 11,095 | 478,194
Maine | 872 | 0 | 0 | 872 | 212,307 | 212,307 | 31,154 | 14 | 3,789 | 247,250
Maryland | 3,086 | 10 | 34 | 3,130 | 762,065 | 762,065 | 111,827 | 1,579 | 427,311 | 1,301,203
Massachusetts | 6,393 | 102 | 78 | 6,573 | 1,600,336 | 1,600,366 | 234,836 | 686 | 185,646 | 2,020,818
Michigan | 8,067 | 713 | 191 | 8,971 | 2,184,179 | 2,184,179 | 320,511 | 411 | 111,225 | 2,615,915
Minnesota | 10,266 | 2 | 7 | 10,275 | 2,501,666 | 2,501,666 | 367,099 | 566 | 153,172 | 3,021,937
Missippi | 126 | 5 | 8 | 139 | 33,842 | 75,000 | 4,966 | 38 | 10,284 | 90,250
Missouri | 8,316 | 6 | 22 | 8,344 | 2,031,523 | 2,031,523 | 298,109 | 27 | 7,307 | 2,336,939
Montana | 12 | 0 | 2 | 14 | 3,409 | 75,000 | 500 | 1 | 271 | 75,771
Nebraska | 2,433 | 3 | 22 | 2,458 | 598,452 | 598,452 | 87,818 | 38 | 10,284 | 696,554
Nevada ⁶ | 1,498 | 735 | 341 | 2,574 | 626,695 | 626,695 | 91,962 | 181 | 48,982 | 767,639
New Hampshire | 1,715 | 0 | 0 | 1,715 | 417,553 | 417,553 | 61,272 | 25 | 6,766 | 485,591
New Jersey | 4,446 | 265 | 818 | 5,529 | 1,346,152 | 1,346,152 | 197,537 | 770 | 208,378 | 1,752,067
New Mexico | 421 | 330 | 229 | 980 | 238,602 | 238,602 | 35,013 | 10 | 2,706 | 276,321
New York | 22,833 | 1,113 | 526 | 24,472 | 5,958,225 | 5,958,225 | 874,321 | 6,847 | 1,852,944 | 8,685,490
North Carolina | 4,375 | 15 | 57 | 4,447 | 1,082,716 | 1,082,716 | 158,880 | 235 | 63,596 | 1,305,192
North Dakota | 1,603 | 0 | 0 | 1,603 | 390,284 | 390,284 | 57,271 | 0 |  | 447,555
Ohio | 4,639 | 5 | 28 | 4,672 | 1,137,497 | 1,137,497 | 166,918 | 208 | 56,289 | 1,360,704
Oklahoma | 412 | 0 | 8 | 420 | 102,258 | 102,258 | 15,006 | 63 | 17,049 | 134,313
Oregon | 4,858 | 460 | 170 | 5,488 | 1,336,169 | 1,336,169 | 196,072 | 129 | 34,910 | 1,567,151
Pennsylvania | 7,700 | 166 | 158 | 8,024 | 1,953,612 | 1,953,612 | 286,677 | 657 | 177,798 | 2,418,087
Rhode Island | 603 | 1 | 8 | 612 | 149,004 | 149,004 | 21,865 | 87 | 23,544 | 194,413
South Carolina | 199 | 1 | 21 | 221 | 53,807 | 91,634 | 7,896 | 37 | 10,013 | 109,543
South Dakota ⁶ | 1,265 | 0 | 0 | 1,265 | 307,991 | 307,991 | 45,195 | 10 | 2,706 | 355,892
Tennessee | 3,226 | 7 | 118 | 3,351 | 815,872 | 815,872 | 119,723 | 263 | 71,173 | 1,006,768
Texas | 13,282 | 831 | 459 | 14,572 | 3,547,861 | 3,547,861 | 520,620 | 798 | 215,956 | 4,284,437
Utah | 3,433 | 0 | 2 | 3,435 | 836,323 | 836,323 | 122,724 | 48 | 12,990 | 972,037
Vermont | 981 | 0 | 0 | 981 | 238,845 | 238,845 | 35,049 | 9 | 2,436 | 276,330
Virginia | 4,867 | 111 | 72 | 5,050 | 1,229,529 | 1,229,529 | 180,423 | 1,330 | 359,926 | 1,769,878
Washington | 15,760 | 0 | 36 | 15,796 | 3,845,869 | 3,845,869 | 564,350 | 387 | 104,730 | 4,514,949
West Virginia | 20 | 0 | 0 | 20 | 4,869 | 75,000 | 715 | 4 | 1,082 | 76,797
Wisconsin | 1,667 | 2 | 4 | 1,673 | 407,327 | 407,327 | 59,772 | 119 | 32,204 | 499,303
Wyoming ⁴ |  |  |  |  |  |  |  |  |  |
Total | 235,315 | 18,757 | 39,820 | 293,892 | 71,554,211 | 71,927,850 | 10,500,000 | 36,952 | 10,000,000 | 92,427,850
¹ Includes: refugees and Amerasian immigrants from Vietnam adjusted for secondary migration.
² For FY 1999 and FY 2000, Havana Parolee arrivals for all States are based on actual data. For FY 1998, Florida's HP's based on actual data, while Havana Parolees in other States are prorated according to the State's proportion of the three-year entrant population.
³ Includes individuals granted asylum in FY 2000 by the INS asylum corps (22,787), the immigration judges of the Executive Office of Immigration Review (12,763), and the Bureau of Immigration Appeals (1,402). These numbers were not used for the social services allocation. See narrative for their use in the set-aside.
⁴ Alaska and Wyoming no longer participate in the Refugee Program.
⁵ The allocation for Idaho is expected to be awarded to the State replacement designee.
⁶ The allocations for South Dakota, Kentucky, and Nevada are expected to be awarded to Wilson/Fish projects.

VI. Paperwork Reduction Act

This notice does not create any reporting or recordkeeping requirements requiring OMB clearance.

(Catalog of Federal Domestic Assistance No. 93.566 Refugee Assistance—State Administered Programs)
Dated: June 26, 2001.
Carmel Clay-Thompson,
Acting Director, Office of Refugee Resettlement

[FR Doc. 01-16938 Filed 7-5-01; 8:45 am]

BILLING CODE 4184-01-P